ARCHITECTURAL AND TRANSPORTATION BARRIERS COMPLIANCE BOARD

[Docket No. ATBCB-2023-0002]

Proposed Renewal of Information Collection; OMB Control Number 3014-0012, Online Architectural Barriers Act (ABA) Complaint Form

AGENCY: Architectural and Transportation Barriers Compliance Board.

ACTION: Notice and request for comments.

SUMMARY: In accordance with the Paperwork Reduction Act of 1995 (PRA), the Architectural and Transportation Barriers Compliance Board (Access Board) invites comment on the proposed extension of its existing information collection titled, “Online Architectural Barriers Act (ABA) Complaint Form.” (OMB Control No. 3014-0012). The information collection is scheduled to expire on September 30, 2023, and we propose to continue using the instrument for an additional three years.

DATES: Consideration will be given to all comments received by August 11, 2023.

ADDRESSES: Submit comments by any of the following methods:

• Federal eRulemaking Portal: http://www.regulations.gov. Follow the instructions for submitting comments. Regulations.gov ID for this docket is ATBCB-2023-0002.

• Email: damiani@access-board.gov. Include docket number ATBCB-2023-0002 in the subject line of the message.

• Mail or Hand Delivery/Courier: Mario Damiani, Office of General Counsel, U.S. Access Board, 1331 F Street NW, Suite 1000, Washington, DC 20004-1111.

Instructions: All submissions received must include the agency name and docket number for this Notice (identified by ATBCB-2023-0002). All comments received, including any personal information provided, will be posted without change to http://www.regulations.gov. For this reason, please do not include information of a confidential nature in your comments, such as sensitive personal or proprietary information.

FOR FURTHER INFORMATION CONTACT: Mario Damiani, Office of General Counsel, U.S. Access Board, 1331 F Street NW, Suite 1000, Washington, DC 20004-1111. Phone: 202-272-0050 (voice); 202-272-0064 (TTY). Email: damiani@access-board.gov.

SUPPLEMENTARY INFORMATION: Under the PRA and its implementing regulations (5 CFR part 1320), Federal agencies must obtain approval from the Office of Management and Budget (OMB) for each collection of information they conduct or sponsor. “Collection of information,” within the meaning of the PRA, includes agency requests that pose identical questions to, or impose reporting or recording keeping obligations on, ten or more persons, regardless of whether response to such request is mandatory or voluntary. See 5 CFR 1320.3(c); see also 44 U.S.C. 3502(3). Before seeking clearance from OMB, agencies are generally required, among other things, to publish a 60-day notice in the Federal Register concerning any proposed information collection—including extension of a previously-approved collection—and provide an opportunity for comment. See 44 U.S.C. 3506(c)(2)(A); 5 CFR 1320.8(d)(1).

OMB Control Number: 3014-0012.

Title: Online Architectural Barriers Act (ABA) Complaint Form.

Form Number: The Online Architectural Barriers Act (ABA) Complaint Form is not assigned a form number.

Type of Review: Renewal of an information collection.

Background: The Access Board enforces the Architectural Barriers Act of 1968 (ABA) by investigating complaints from members of the public concerning particular buildings or facilities, i.e., those that are: constructed or altered by or on behalf of the United States; leased with federal funds; or constructed or altered with funds from a federal grant or loan. Over 90% of complaints the Access Board receives each year are submitted using the standardized, user-friendly, and accessible Online ABA Complaint Form; the remainder are submitted in writing, without the need to use a hard-copy complaint form, by email, mail, or fax. The Online ABA Complaint Form allows complaints to be filed 24 hours per day, seven days per week, and allows for greater efficiency, clarity, and timeliness in the complaint filing process and resolution of complaints.

The Online ABA Complaint Form prompts complainants to provide the information the Access Board needs to investigate their complaint. First, complainants must complete the form fields for at least the name of the building or facility and the city and state in which it is located. Second, complainants must describe each barrier to accessibility they have found at the building or facility. Third, complainants are given the option, but are not required, to provide personal information, including their name, address, telephone number(s), and email address. Where provided, personal information is not disclosed outside the agency without the written permission of the complainant. Complainants are also given the option to upload electronic files containing pictures, drawings, or other documents relevant to their complaint. Once any additional information and the complaint is submitted, the system provides complainants confirmation that their complaint has been submitted successfully, a complaint number for them to use when making inquiries about the status of their complaint, and an option to print their complaint. Complainants also receive an automatically generated email (if they have provided an email address) confirming the submission of their complaint.

Respondents: Individual members of the public; approximately 200 individuals file ABA complaints with the Access Board each year.

Frequency: Complainants need only submit one complaint for each building or facility at which they have found accessibility barriers, regardless of the number of barriers they found. Most complainants file only one ABA complaint. Complainants need to submit a separate form for each additional building or facility at which they have found an accessibility barrier.

Estimated Average Burden per Response: On average, less than 30 minutes; the burden may vary depending on how many allegations the complainant includes in the complaint. There is no financial burden on respondents.

Estimated Total Annual Burden: Approximately 100 hours annually.

Request for Comment: Comments are invited on any aspect of this information collection, including: (a) whether the proposed collection of information is necessary for the proper performance of the functions of the agency, including whether the information will have practical utility; (b) the accuracy of the estimated burden of the proposed collection of information; (c) ways to enhance the quality, utility, and clarity of the information from respondents; and (d) ways to minimize the burden of the collection of information on those who are to respond.

Christopher Kuczynski,
General Counsel.

[FR Doc. 2023-12452 Filed 6-9-23; 8:45 am]

BILLING CODE 8150-01-P